DEPARTMENT OF HEALTH AND HUMAN SERVICES

Administration for Children and Families

[Program Announcement No. ACYF-PA-CCB-2001-03]

Early Learning Opportunities Act Discretionary Grants

AGENCY: Administration on Children, Youth and Families (ACYF), ACF, DHHS.

ACTION: Announcement of the availability of competitive grants to Local Councils.

SUMMARY: The purpose of this program announcement is to announce the availability of Fiscal Year 2001 Discretionary Funds, authorized by Congress under the FY 2001 Consolidated Appropriations Act, for grants to Local Councils.

DATES: The closing date for submission of applications is June 14, 2001. Mailed applications postmarked after the closing date will be classified as late.

Deadline: Mailed applications shall be considered as meeting an announced deadline if they are either received on or before the deadline date, or sent on or before the deadline date and received by ACF in time for the independent review to: Administration on Children, Youth and Families, Child Care Bureau Program Announcement No. ACYF-PA-CCB-2001-03, 1815 North Fort Myer Drive, Suite 300, Arlington, VA 22209, Telephone: 1-800-351-2293.

Applicants must ensure that a legibly dated U.S. Postal Service postmark or a legibly dated, machine produced postmark of a commercial mail service is affixed to the envelope/package containing the application(s). To be acceptable as a proof of timely mailing, a postmark from a commercial mail service must include the logo/emblem of the commercial mail service company and must reflect the date the package was received by the commercial mail service company from the applicant. Private metered postmarks shall not be acceptable as proof of timely mailing.

Applications hand carried by applicants, applicant couriers, or by other representatives of the applicant shall be considered as meeting an announced deadline if they are received on or before the deadline date, between the hours of 8:00 a.m. and 4:30 p.m., EST, Monday through Friday (excluding Federal holidays) at the address above. (Applicants are cautioned that express/overnight mail services do not always deliver as agreed.)

ACF cannot accommodate transmission of applications by fax or through other electronic media, regardless of date or time of submission and receipt. Therefore, applications transmitted to ACF electronically will not be accepted.

Late Applications. Applications that do not meet the criteria stated above are considered late applications. ACF shall notify each late applicant that its application will not be considered in the current competition.

Extension of Deadlines. ACF may extend an application deadline for applicants affected by acts of God such as floods and hurricanes, when there is widespread disruption of mail service, or for other disruptions of services, such as a prolonged blackout, that affect the public at large. A determination to extend or waive deadline requirements rests with the Chief Grants Management Officer.

Notice of Intent to Submit Application: If you intend to submit an application, please contact ACYF's Operations Center at 1-800-351-2293 with the following information: the number and title of this announcement; your organization's name and address; and your contact person's name, phone number, fax number, and e-mail address. The information will be used to determine the number of expert reviewers needed to evaluate applications and to update the mailing list for program announcements.

FOR FURTHER INFORMATION CONTACT: Administration on Children, Youth and Families, Child Care Bureau, Room 2046, Mary E. Switzer Building, 330 C Street, Southwest, Washington, DC 20447, Phone: 202-690-6243 or 202-401-5130, Fax: 202-690-5600.

SUPPLEMENTARY INFORMATION: The ACF Uniform Discretionary Grant Application, covering all ACF announcements contained in the Application Kit, and this Supplementary Information section, contains all the forms and instructions needed to apply for a grant under this announcement. No additional application materials are needed.

The Supplementary Information section consists of seven parts. Part I includes general information about funding requirements, and application procedures for child care grants under this program announcement. Part II provides background information on the Child Care Bureau and the Early Learning Opportunities Act as well as relevant definitions. Part III describes goals and priorities related to this announcement. Part IV provides instructions for the Uniform Project Description. Part V describes the evaluation criteria and selection process. Part VI describes the application process. Part VII provides information on the content of the application and submission instructions. The contents are outlined below:

Table of Contents

Part I. General Information

A. Purpose

B. Citations

C. Number of Awards

D. Project Duration

E. Funding Levels and Budget Periods

F. Non-Federal Share of Project Costs

G. Other Financial Requirements

H. Eligibility

I. Protections

Part II. Background and Context

A. The Child Care Bureau

B. The Early Learning Opportunities Act

C. Definitions

Part III. Early Learning Opportunities Act Grants—Goals and Priorities

Part IV. General Instructions for the Uniform Project Description

A. Project Summary/Abstract

B. Objectives and Need for Assistance

C. Results or Benefits Expected

D. Approach

E. Evaluation

F. Geographic Location

G. Additional Information

H. Budget and Budget Justification

Part V. Evaluation Criteria

Criterion 1. Objectives and Need for Assistance

Criterion 2. Results and Benefits Expected

Criterion 3. Approach

Criterion 4. Geographic Location

Criterion 5. Staff and Position Data and Organizational Profile

Criterion 6. Budget and Budget Justification

Part VI. Application Process

A. Assistance to Prospective Grantees

B. Application Requirements

C. Paperwork Reduction Act of 1995

D. Notification under Executive Order 12372

E. Availability of Forms and Other Materials

F. Application Consideration

Part VII. Application Content and Submission Instructions

A. Application Content

B. Application Submission

Part I. General Information

A. Purpose

The purpose of this program announcement is to announce the availability of fiscal year 2001 funds, authorized under the Early Learning Opportunities Act (ELOA), for early learning programs likely to produce sustained gains in early learning.

B. Citations

1. Sponsorship. Grants being awarded under this announcement are sponsored by the Child Care Bureau (the Bureau) of the Administration on Children, Youth and Families (ACYF) in the Administration for Children and Families (ACF), U.S. Department of Health and Human Services (DHHS). The Bureau will manage the projects.

2. Funding Authority. Funding is provided by ACF under the Consolidated Appropriations Act, 2001 (Pub. L. 106-554).

3. Catalog of Federal Domestic Assistance. The Catalog of Federal Domestic Assistance Number is 93.577.

C. Number of Awards

Up to 25 projects will be funded in fiscal year 2001 (by September 30, 2001) subject to the availability of funds and the results of the review process.

D. Project Duration

The project period will be 17 months. It is anticipated that the project period will be September 23, 2001 to February 28, 2003.

E. Funding Levels and Budget Periods

Awards will be for 17-month project and budget periods. Individual awards will be between $250,000 and $1,000,000 depending on the size of the population to be served as well as geographic area to be served and the reasonableness of the budget in relationship to the services to be provided. While this will vary depending on the scope of the applications submitted, awards are expected to average $700,000.

The Act (section 809) provides that the Secretary shall reserve a portion of each year's total appropriation for the Early Learning Opportunities Act (ELOA) for Indian Tribes, Regional Corporations, and Native Hawaiian entities. ACF anticipates competitively awarding funds to at least one Local Council designated by an Indian Tribe and one Local Council designated by an Alaska Native Regional Corporation or Native Hawaiian entity, subject to receipt of applications meeting the requirements of the Act as reflected in this announcement. ACF intends to award no less than one percent of the FY 2001 ELOA appropriation in grants to Indian Tribes, Alaska Natives, and Native Hawaiians.

F. Non-Federal Share of Project Costs

Grantees must provide at least 15 percent of the total approved project cost. The total approved cost is the sum of the Federal share and the non-Federal share. Therefore, a project requesting $500,000 in Federal funds must include a match of at least $88,236 (15 percent total project cost). The non-Federal share may be contributed in cash or in-kind, fairly evaluated, including facilities, equipment, or services, which may be provided from State or local public sources, or through donations from private entities. For the purposes of this paragraph, the term “facilities” includes the use of facilities, but the term “equipment” means donated equipment and not the use of equipment. Grantees will be held accountable on the grant award for commitments of non-Federal resources even if the approved amount exceeds the minimum match required. Failure to provide the amount specified on the grant award can result in a disallowance of Federal funds.

G. Other Financial Requirements

Amounts received shall be used to supplement and not supplant other Federal, State, and local public funds expended to promote early learning. No funds provided shall be used to carry-out an activity funded under another provision of law providing for Federal child care or early learning programs, unless an expansion of such activity is identified in the local needs assessment and performance goals.

Not more than three percent of the Federal funds received by the Local Council through this announcement shall be used to pay for the administrative costs (as defined in Part II.C.) of the Local Council in carrying out activities funded under the grant.

H. Eligibility

An eligible applicant for these grants must be designated by a local government entity (or Indian Tribe, Regional Corporation, or Native Hawaiian entity) as a “Local Council” to serve one or more localities. Applicants must include a letter from the designating entity in their application (see Part V, Evaluation Criteria, Criterion 4). Membership of the governing body of the applicant organization must include representatives as follows:

1. Local agencies that will be directly affected by early learning programs assisted under the Early Learning Opportunities Act and this announcement;

2. Parents;

3. Other individuals concerned with early learning issues in the locality, such as representatives of entities providing elementary education, child care resource and referral services, early learning opportunities, child care, and health services; and

4. Other key community leaders.

Local Councils that have been formed prior to the date of enactment of the Early Learning Opportunities Act and have similar membership will also be considered eligible. It is critical that Councils be able to demonstrate organizational and fiscal capabilities. Further, it is not recommended that Local Councils provide direct services to the children and families in their communities.

A Local Council may enter into an agreement with an entity with a demonstrated capacity for administering grants that is affected by, or concerned with, early learning issues, including the State, to serve as fiscal agent for the administration of grant funds received by the Local Council under this program. The Local Council, however, must be the applicant under this announcement, and if selected for a grant, must be responsible for ensuring compliance with the activities and terms of the grant.

Non-profit organizations submitting an application must submit proof of their non-profit status in their applications at the time of submission. This can be accomplished by providing a copy of the applicant's listing in the Internal Revenue Service's (IRS) most recent list of tax-exempt organizations described in section 501(c)(3) of the IRS code or by providing a copy of the currently valid IRS tax exemption certificate, or by providing a copy of the articles of incorporation bearing the seal of the State in which the corporation or association is domiciled.

I. Protections

1. No person, including a parent, shall be required to participate in any program of early childhood education, early learning, parent education, or developmental screening pursuant to the provisions of the Early Learning Opportunities Act.

2. Nothing in the Early Learning Opportunities Act shall be construed to affect the rights of parents otherwise established in Federal, State, or local law.

3. No entity that receives funds under this title shall be required to provide services under this title through a particular instructional method or in a particular instructional setting to comply with this title.

Part II. Background and Context

A. The Child Care Bureau

The Child Care Bureau was established in 1994 to provide leadership to efforts to enhance the quality, affordability, and supply of child care. The Child Care Bureau administers the Child Care and Development Fund (CCDF), a $4.6 billion child care program that includes funding for child care subsidies and activities to improve the quality and availability of child care. CCDF was created after amendments to ACF child care programs by Title VI of the Personal Responsibility and Work Opportunity Reconciliation Act of 1996 consolidated four Federal child care funding streams including the Child Care and Development Block Grant, AFDC/JOBS Child Care, Transitional Child Care, and At-Risk Child Care.

The Bureau works closely with ACF Regions, States, Territories and Tribes to assist with, oversee, and document implementation of new policies and programs in support of State, local and private sector administration of child care services and systems. In addition, the Bureau collaborates extensively with other offices throughout the Federal government to promote integrated, family-focused services and coordinated child care delivery systems. In all of these activities, the Bureau seeks to enhance the quality, availability, and affordability of child care services, support children's healthy growth and development in safe child care environments, enhance parental choice and involvement in their children's care, and facilitate the linkage of child care with other community services.

B. The Early Learning Opportunities Act

The Early Learning Opportunities Act (ELOA) was passed by Congress to award grants to States to enable them to increase, support, expand and better coordinate early learning opportunities for children and their families through local community organizations. The purposes of the Act are to: (1) Increase the availability of voluntary programs, services, and activities that support early childhood development, increase parent effectiveness, and promote the learning readiness of young children so that young children enter school ready to learn; (2) support parents, child care providers, and caregivers who want to incorporate early learning activities into the daily lives of young children; (3) remove barriers to the provision of an accessible system of early childhood learning programs in communities throughout the United States; (4) increase the availability and affordability of professional development activities and compensation for caregivers and child care providers; and (5) facilitate the development of community-based systems of collaborative service delivery models characterized by resource sharing, linkages between appropriate supports, and local planning for services.

The Act provides that if the amount appropriated for this program in any fiscal year is less than $150 million, the Department of Health and Human Services (DHHS) shall award grants on a competitive basis directly to Local Councils. DHHS is administering the program under this special provision in FY 2001.

C. Definitions

Administrative Costs—Administrative costs are defined as costs related to the overall management of the program which do not directly relate to the provision of program services. These costs can be in both the personnel and non-personnel budget categories and include, but are not limited to: salaries of managerial and administrative staff, indirect costs, and other costs associated with administrative functions such as accounting, payroll services or auditing.

Caregiver—The term “caregiver” means an individual, including a relative, neighbor, or family friend, who regularly or frequently provides care, with or without compensation, for a child for whom the individual is not the parent.

Child Care Provider—The term “child care provider” means a provider of non-residential child care services (including center-based, family-based, and in-home child care services) for compensation who or that is legally operating under State law, and complies with applicable State and local requirements for the provision of child care services.

Early Learning—used with respect to a program or activity, means learning designed to facilitate the development of cognitive, language, motor, and social-emotional skills for, and to promote learning readiness in, young children (see definition of young child).

Early Learning Program—is a program of services or activities that helps parents, caregivers, and child care providers to incorporate early learning into the daily lives of young children; or a program that directly provides early learning to young children.

Indian Tribe—The term “Indian Tribe” has the meaning given the term in section 4 of the Indian Self-Determination and Education Assistance Act (25 U.S.C. 450b).

Local Council—The term “Local Council” means a Local Council established or designated by a local government, Indian Tribe, Regional Corporation, or Native Hawaiian entity to serve as applicant under this announcement and that serves one or more localities.

Locality—The term “locality” means a city, county, borough, township, or area served by another general purpose unit of local government, an Indian Tribe, a Regional Corporation, or a Native Hawaiian entity.

Native Hawaiian Entity—A private non-profit organization that serves the interests of Native Hawaiians, and is recognized by the Governor of Hawaii for the purpose of planning, conducting, or administering programs (or parts of programs) for the benefit of Native Hawaiians.

Parent—“parent” means a biological parent, an adoptive parent, a stepparent, a foster parent, or a legal guardian of, or a person standing in loco parentis to a child.

Regional Corporation—Native Alaska Regional Corporation; an entity listed in section 419(4)(B) of the Social Security Act (42 U.S.C. 619(4)(B)).

Young Child—for purposes of this program, the term “young child” means any child from birth to the age of mandatory school attendance in the State where the child resides.

Part III. Early Learning Opportunities Act Grants—Goals and Priorities

For FY 2001, grants will be awarded directly to Local Councils that can best assess their community needs and create a plan to facilitate the development of community-based systems and collaborative service delivery models.

These grants will be available to Local Councils that have been so designated by a local government, Indian Tribe, Regional Corporation, or Native Hawaiian entity. Multiple applications from the same locality and applications that cover overlapping geographic areas will not be considered. Local Councils will be required to submit a current needs and resources assessment, documenting the needs of the young children and families in their locality, as well as a local plan that addresses the most significant needs. The plan will include three or more of the required Early Learning Activities (listed below) and clarify the outcome measures for each activity being proposed. Grants will be awarded to Councils for seventeen months through a competitive process.

Local Councils must include three or more of the following activities in their implementation plan to be eligible for grants.

1. Helping parents, caregivers, child care providers, and educators increase their capacity to facilitate the development of cognitive, language comprehension, expressive language, social-emotional, and motor skills, and promote learning readiness.

2. Promoting effective parenting.

3. Enhancing early childhood literacy.

4. Developing linkages among early learning programs within a community and between early learning programs and health care services for young children.

5. Increasing access to early learning opportunities for young children with special needs including developmental delays, by facilitating coordination with other programs serving such young children.

6. Increasing access to existing early learning programs by expanding the days or times that the young children are served, by expanding the number of young children served, or by improving the affordability of the programs for low-income families.

7. Improving the quality of early learning programs through professional development and training activities, increased compensation, and recruitment and retention incentives, for early learning providers.

8. Removing ancillary barriers to early learning, including transportation difficulties and absence of programs during nontraditional work times.

Part IV. General Instructions for the Uniform Project Description

The following ACF Uniform Project Description has been approved under OMB Control Number 0970-0139. This format is to be used to submit an application under this announcement.

A. Project Summary/Abstract

Provide a summary of the project description (a page or less) with reference to the funding request.

B. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated); some of which may be outside the scope of the program announcement.

C. Results or Benefits Expected

Identify the results and benefits to be derived. For example, describe who will receive early learning services, where and how these services will be provided, the anticipated numbers of children and families to be served, and how the services will benefit the young children, families and community to be served.

D. Approach

Outline a plan of action, which describes the scope and detail of how the proposed work will be accomplished. Account for all functions or activities identified in the application. Cite factors which might accelerate or decelerate the work and state your reason for taking the proposed approach rather than others.

Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

E. Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

F. Geographic Location

Describe the precise location of the project and boundaries of the area to be served by the proposed project. Maps or other graphic aids may be attached.

G. Additional Information

Following are requests for additional information that need to be included in the application.

1. Staff and Position Data: Provide a biographical sketch for each key person appointed and a job description for each vacant key position. A biographical sketch will also be required for new key staff as appointed.

2. Plan for Project Continuance Beyond Grant Support: Provide a plan for securing resources and continuing project activities after Federal assistance has ceased.

3. Organizational Profiles: Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

4. Third-Party Agreements: Include written agreements between grantees and subgrantees or subcontractors or other cooperating entities. These agreements must detail scope of work to be performed, work schedules, remuneration, and other terms and conditions that structure or define the relationship.

5. Letters of Support: Provide statements from community, public and commercial leaders that support the project proposed for funding. All submissions should be included in the application OR by application deadline.

H. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General: The following guidelines are for proposing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

1. Personnel: Description: Costs of employee salaries and wages. Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

2. Fringe Benefits: Description: Costs of employee fringe benefits unless treated as part of an approved indirect cost rate. Justification: Provide a breakdown of the amounts and percentages that comprise fringe benefit costs such as health insurance, FICA, retirement insurance, taxes, etc.

3. Travel: Description: Costs of project-related travel by employees of the applicant organization (does not include costs of consultant travel). Justification: For each trip, show the total number of traveler(s), travel destination, duration of trip, per diem, mileage allowances, if privately owned vehicles will be used, and other transportation costs and subsistence allowances. Travel costs for key staff to attend ACF-sponsored workshops should be detailed in the budget.

4. Equipment: Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.) Justification: For each type of equipment requested, provide a description of the equipment, the cost per unit, the number of units, the total cost, and a plan for use in the project, as well as use or disposal of the equipment after the project ends. An applicant organization that uses its own definition for equipment should provide a copy of its policy or section of its policy which includes the equipment definition.

5. Supplies: Description: Costs of all tangible personal property other than that included under the Equipment category. Justification: Specify general categories of supplies and their costs. Show computations and provide other information that supports the amount requested.

6. Contractual: Description: Costs of all contracts for services and goods except for those which belong under other categories such as equipment, supplies, construction, etc. Third-party evaluation contracts (if applicable) and contracts with secondary recipient organizations, including delegate agencies and specific project(s) or businesses to be financed by the applicant, should be included under this category. Justification: All procurement transactions shall be conducted in a manner to provide, to the maximum extent practical, open and free competition. Recipients and subrecipients, other than States that are required to use Part 92 procedures, must justify any anticipated procurement action that is expected to be awarded without competition and exceeds $100,000. Recipients might be required to make available to ACF pre-award review and procurement documents, such as request for proposals or invitations for bids, independent cost estimates, etc. Note: Whenever the applicant intends to delegate part of the project to another agency, the applicant must provide a detailed budget and budget narrative for each delegate agency, by agency title, along with the required supporting information referred to in these instructions.

7. Non-Federal Resources: Description: Amounts of non-Federal resources that will be used to support the project as identified in Block 15 of the SF-424. Justification: The firm commitment of these resources must be documented and submitted with the application in order to be given credit in the review process. A detailed budget must be prepared for each funding source.

8. Program Income: Description: The estimated amount of income, if any, expected to be generated from this project. Justification: Describe the nature, source and anticipated use of program income in the budget or refer to the pages in the application which contain this information.

Part V. Evaluation Criteria

The six evaluation criteria that follow will be used to review and evaluate each application. Each of the criteria should be addressed in the project description section of the application. The point values indicate the maximum numerical weight each criterion will be accorded in the review process. Note that the highest possible score an application can receive is 100 points.

A. Evaluation Criteria

Criterion 1. Objectives and Need for Assistance (20 Points)

1. The extent to which the applicant specifies the goals and objectives of the project and describes how implementation will fulfill the purposes of the Early Learning Opportunities Act. The applicant must demonstrate a thorough understanding of the importance of early learning services and activities that help parents, caregivers, and child care providers incorporate early learning into the daily lives of young children, as well as programs that directly provide early learning to young children.

2. The extent to which the applicant demonstrates the need for assistance including identification and discussion of its needs and resources assessment concerning early learning services. Relevant data from the assessment should be included. Participant and beneficiary information must also be included.

3. The extent to which the applicant demonstrates how it will give preference to supporting activities/projects that maximize the use of resources through collaboration with other early learning programs, provide continuity of services for young children across the age spectrum, and help parents and other caregivers promote early learning with their young children. The applicant must provide information about how decisions will be made about who will provide each early learning service and/or activity funded through this grant.

4. The extent to which the applicant demonstrates that it has worked with local education agencies to identify cognitive, social, and emotional, and motor developmental abilities which are necessary to support children's readiness for school; that the programs, services, and activities assisted under this title will represent developmentally appropriate steps toward the acquisition of those abilities; and, that the programs, services, and activities assisted provide benefits for children cared for in their own homes as well as children placed in the care of others.

Criterion 2. Results and Benefits Expected (10 Points)

The extent to which the applicant:

1. Specifies the number of children and families to be served and how the services to be provided will be funded consistent with the assessment.

2. Explains how the expected results will benefit the population to be served in meeting its needs for early learning services and activities.

3. Describes how it will assess the effects that services provided under this grant have had in addressing the needs identified under its needs and resources assessment. Particular attention must be paid to discussing how the effectiveness of the activities included in their implementation plan (approach) will be assessed.

4. Demonstrates that completion of the proposed objectives will result in specific, measurable results. The specific information provided in the narrative and plan on expected results or benefits for each objective is the standard upon which its achievement can be evaluated at the end of the project period (i.e., 17 months).

Criterion 3. Approach (35 Points)

The extent to which the applicant:

1. Includes a detailed plan that identifies goals and objectives, relates those goals and objectives to the findings of its needs and resources assessment, and provides a work plan identifying specific activities necessary to accomplish the stated goals and objectives. The plan must demonstrate that each of the project objectives and activities supports the current needs and resource assessment and can be accomplished with the available or expected resources during the proposed project period. In addition, the plan must:

• Indicate when the objective and major activities under each objective will be accomplished (a timeline is recommended);

• Specify who will conduct the activities under each objective;

• Describe how subcontractors will be chosen and held accountable for carrying out activities in compliance with this application and grant terms and conditions;

• Describe how actual and perceived conflict of interest will be avoided if the Local Council is also a direct service provider; and,

• Indicate how programs, services, and activities are provided based on the family's ability to pay (for services that customarily require a payment).

2. Describes how the project will form collaborations among local early learning, youth, social service, and educational providers to maximize resources and concentrate efforts on areas of greatest need.

3. Includes a feasible plan for securing resources and continuing early learning activities after Federal assistance has ended.

Criterion 4. Geographic Location (5 Points)

1. The applicant must describe the precise location of the project and boundaries of the area to be served. Maps or other graphic aids that are easily duplicated may be attached. Applications from multiple applicants proposing to serve the same or overlapping geographic areas will be disqualified.

2. The applicant must include a letter from an entity of local government (or Indian Tribe, Regional Corporation, or Native Hawaiian entity) designating the applicant as a “Local Council” to serve one or more localities.

Criterion 5. Staff and Position Data and Organizational Profiles (20 Points)

The extent to which the applicant:

1. Demonstrates its staff and organizational experience particularly in areas of facilitating needs and resources assessments and collaborative activities as they relate to early learning services. The applicant must also document its experience in facilitating such activities and the length of time the applicant has been involved in these activities. Evidence of the applicant's ability to manage a project of the proposed scope is demonstrated. The application clearly shows the successful management of projects of similar scope by the organization, and/or by the individuals designated to manage the project.

2. Provides position descriptions and/or resumes of key personnel, including those of consultants. The position descriptions and/or resumes relate specifically to the staff proposed in the applicant's plan and proposed budget. Position descriptions must clearly describe each position and its duties and clearly relate to the personnel staffing required to achieve the project objectives. Resumes and/or proposed position descriptions demonstrate that the proposed staff are or will be qualified to carry out the project activities. Either the position descriptions or the resumes contain the qualifications and/or specialized skills necessary for overall quality management of the project. Resumes must be included if individuals have been identified for positions in the application. Resumes must indicate what position the individual will fill and position descriptions must specifically describe the job as it relates to the proposed project. The applicant must also list organizations and consultants who will work on the program along with a short description of the nature of their effort or contribution.

3. Describes the applicant agency including the types, quantities and costs of services it provides. The applicant must discuss the role of other organizations that will be involved in providing direct services to children and families through this grant. This discussion must include information about the written agreements that will be executed with subgrantees, subcontractors, or other cooperating entities. These agreements, or proposed agreements, must detail the scope of work to be performed, work schedules, remuneration, and other terms and conditions that structure or define the relationship.

4. If the Local Council will work with a fiscal agent, that entity, its qualifications, and its relationship to the Council must be described. List all sites, including addresses, phone numbers and staff contacts. Organizational charts must be provided.

Criterion 6. Budget and Budget Justification (10 Points)

The extent to which the applicant demonstrates:

1. That the funds requested will be used for early learning services that will be provided under this announcement. The discussion must refer to (1) the budget information presented on Standard Forms 424 and 424A and the applicant's budget justification and (2) the results or benefits identified under Criterion 2 above. Funds must be designated to allow two representatives from the Local Council to attend one grantee meeting in Washington D.C.

2. That the project's costs are reasonable in view of the activities to be carried out, that the funds are appropriately allocated across component areas, and that the budget is sufficient to accomplish the objectives.

3. That it has sufficient fiscal and accounting capacity to ensure prudent use, proper disbursement, and accurate accounting of funds, and that unanticipated problems can be resolved and that the project will be completed on time and with a high degree of quality.

Part VI. Application Process

A. Assistance to Prospective Grantees

Potential grantees can direct questions about application forms to the Administration on Children, Youth and Families, Child Care Bureau Program Announcement, 1815 North Fort Myer Drive, Suite 300, Arlington, VA 22209; Telephone: 1-800-351-2293; electronic mail: CCB@lcgnet.com. Questions about program requirements may be directed to the Child Care Bureau at 202-690-6243 or 202-401-5130, Fax: 202-690-5600.

B. Application Requirements

To be considered for a grant, each application must be submitted on the forms provided in the Application Kit and in accordance with the guidance provided in Part VII below.

C. Paperwork Reduction Act of 1995 (Public Law 104-13)

The Uniform Project Description information collection within this Program Announcement is approved under Uniform Project Description (0970-0139) which expires 12/31/2003.

Public reporting burden for this collection of information is estimated to average 10 hours per response, including the time for reviewing instructions, gathering and maintaining the data needed, and reviewing the collection of information. An agency may not conduct or sponsor and a person is not required to respond to, a collection of information unless it displays a currently valid OMB control number.

D. Notification Under Executive Order 12372

This program announcement is not covered under Executive Order 12372, “Intergovernmental Review of Federal Programs,” and 45 CFR Part 100, “Intergovernmental Review of Department of Health and Human Services Program and Activities.”

E. Availability of Forms and Other Materials

A copy of the forms that must be submitted as part of an application and instructions for completing the application are provided in the Application Kit. Legislation referenced in Part I, section B.2 of this announcement may be found in major public libraries and on the Child Care Bureau's website at http://www.acf.dhhs.gov/programs/ccb/policy1/index.htm. Additional copies of this announcement may be obtained by calling 1-800-351-2293. Many standard forms can also be downloaded and printed from the following ACF webpage: http://www.acf.dhhs.gov/programs/oa/form.htm.

An Application Kit containing the necessary forms may be obtained from: Administration on Children, Youth and Families, Child Care Bureau Program Announcement, No. ACYF-PA-CCB 2001-03, 1815 North Fort Myer Drive, Suite 300, Arlington, VA 22209, Telephone: 1-800-351-2293, Electronic Mail: CCB@lcgnet.com.

F. Application Consideration and Selection

Each application will undergo an eligibility and conformance review by Federal Child Care Bureau staff. Applications that pass the eligibility and conformance review will be evaluated on a competitive basis according to the evaluation criteria listed in Part V of this program announcement. This review will be conducted in Washington, DC, by panels of Federal and non-Federal experts knowledgeable in the areas of early learning, child care, early childhood education and other relevant areas.

Application review panels will assign a score to each application, identifying its strengths and weaknesses. The Child Care Bureau will conduct an administrative review of the applications and results of the competitive review panels and make recommendations for funding to the Commissioner, ACYF.

The Commissioner, ACYF, will make the final selection of the applications to be funded. Applications may be funded in whole or in part depending on: (1) The ranked order of applicants resulting from the competitive review; (2) staff review and consultations; (3) the combination of projects that best meets the Bureau's objectives; (4) the funds available; (5) the statutory requirement that reserves funds for Indian Tribes, Alaska Native Regional Corporations, and Native Hawaiian entities; and (6) other relevant considerations. The Commissioner may also elect not to fund any applicants having known management, fiscal, reporting, program, or other problems which make it unlikely that they would be able to provide effective services.

Successful applicants will be notified through the issuance of a Financial Assistance Award that sets forth the amount of funds granted, the terms and conditions of the grant award, the effective date of the award, and the budget period for which support is given, and the total project period for which support is provided. Organizations whose applications will not be funded will be notified in writing by the Commissioner, ACF. Every effort will be made to notify all unsuccessful applicants as soon as possible after final decisions are made.

Part VII. Application Content and Submission Instructions

A. Application Content

Each application must contain the following items in the order listed:

1. A signed cover letter. The application must include a cover letter that includes the announcement number, contact information for the applicant, and information about the entity that has designated the Local Council (local government, Indian Tribe, Regional Corporation, or Native Hawaiian entity). The letter must be signed by an individual authorized to act for the applicant agency and to assume responsibility for the obligations imposed by terms and conditions of the grant award.

2. Application for Federal Assistance (Standard Form 424, REV 4-92). Follow the instructions in the Application Kit. In Item 8 of Form 424, check “New.” In Item 10 of the 424, clearly identify the Catalog of Federal Domestic Assistance (CFDA) program title and number: Early Learning Opportunities Act, 93.577.

3. Budget and Budget Justification (Standard Form 424A, REV 4-92). Follow the instructions in the Application Kit. The budget justification should be typed on standard size plain white paper, provide breakdowns for major budget categories and justify significant costs. List amounts and sources of all funds, both Federal and non-Federal, to be used for this project.

4. Standard Form 424B, “Assurances: Non-Construction Programs.” A duly authorized representative of the applicant organization must certify that the applicant is in compliance with these assurances and certifications.

5. Assurances/Certifications. The applicant must certify its compliance with: (1) Drug-Free Workplace Requirements; (2) Debarment and Other Responsibilities; (3) Pro-Children Act of 1994 (Certification Regarding Environmental Tobacco Smoke). A signature on the SF 424 indicates compliance with the Drug Free Workplace Requirements, Debarment and Other Responsibilities and Environmental Tobacco Smoke Certifications. A signature on the application constitutes an assurance that the applicant will comply with the pertinent Departmental regulations contained in 45 CFR Part 74. In addition, applicants must provide a certification concerning Lobbying. Prior to receiving an award in excess of $100,000, applicants shall furnish an executed copy of the lobbying certification. Applicants must sign and return the certification with their applications.

6. Table of Contents.

7. Project Summary/Abstract (one page maximum). Clearly mark this page with the applicant name as shown on item 5 of the SF 424, identify the title of the proposed project as shown in item 11 and the service area as shown in item 12 of the SF 424. The summary description should not exceed 300 words. Care should be taken to produce a summary that accurately and concisely reflects the proposed project. It should describe the objectives of the project, the approach to be used and the results and benefits expected.

8. The Project Description. The applicant is strongly encouraged to use the evaluation criteria in Part V to organize its response to Part IV, the Uniform Project Description. Specific information should be provided that addresses all components of each criterion. It is in the applicant's best interest to ensure that the project description is easy to read, logically developed in accordance with the evaluation criteria, and adheres to page limitations. In addition, the applicant should be mindful of the importance of preparing and submitting applications using language, terms, concepts, and descriptions that are generally known to the field of early learning as defined under this announcement.

9. The pages of the project description must be numbered and are limited to 40 typed pages, double spaced, printed on only one side, with at least 1/2 inch margins. Pages over the limit will be removed from the application and will not be reviewed. In addition, please note that previous attempts by applicants to circumvent space limitations or to exceed page limits by using small print have resulted in negative responses from reviewers because of the difficulty in reviewing the application.

10. Documents of Support. The maximum number of pages for supporting documentation is 30 pages, double-spaced, exclusive of letters of support or agreement. These documents must be numbered and might include excerpts from the needs and resources assessment, resumes, photocopies of news clippings, evidence of the program's efforts to coordinate child care services at the local level, etc. Documentation over the 30-page limit will not be reviewed. The applicant may, however, include as many letters of support or agreement as are appropriate.

B. Application Submission

To be considered for funding, the applicant must submit one signed original and two additional copies of the application, including all attachments, to the application receipt point specified above. The original copy of the application must have original signatures, signed in black ink. Each copy must be stapled (back and front) in the upper left corner. All copies of an application must be submitted in a single package.

Because each application will be duplicated, do not use or include separate covers, binders, clips, tabs, plastic inserts, maps, brochures or any other items that cannot be processed easily on a photocopy machine with an automatic feed. Do not bind, clip, staple, or fasten in any way separate subsections of the application, including supporting documentation. Applicants are advised that the copies of the application submitted, not the original, will be reproduced by the Federal government for review.

Dated: April 24, 2001.
Gail E. Collins,
Acting Deputy Commissioner, Administration on Children, Youth and Families.

[FR Doc. 01-10640 Filed 4-27-01; 8:45 am]

BILLING CODE 4184-01-P